DEPARTMENT OF HEALTH AND HUMAN SERVICES

Centers for Disease Control and Prevention (CDC)

[CDC-2013-0009; Docket Number NIOSH-264]

National Institute for Occupational Safety and Health (NIOSH) Traumatic Injury Research and Prevention Program and Strategic Goals; Draft Document Availability

AGENCY: The National Institute for Occupational Safety and Health (NIOSH) of the Centers for Disease Control and Prevention (CDC), Department of Health and Human Services (HHS).

ACTION: Notice of draft document for public comment.

SUMMARY: The National Institute for Occupational Safety and Health (NIOSH) of the Centers for Disease Control and Prevention (CDC) announces the availability of a draft document entitled National Institute for Occupational Safety and Health (NIOSH) Traumatic Injury Research and Prevention Program and Strategic Goals now available for public comment. To view the notice and related materials, visit http://www.regulations.gov and enter CDC-2013-0009 in the search field and click “Search.”

Public comment period: Comments must be received September 16, 2013 from publication of the Federal Register Notice.

ADDRESSES: You may submit comments, identified by CDC-2013-0009 and Docket Number NIOSH-264, by either of the two following methods:

• Federal eRulemaking Portal: http://www.regulations.gov. Follow the instructions for submitting comments.

• Mail: NIOSH Docket Office, Robert A. Taft Laboratories, MS-C34, 4676 Columbia Parkway, Cincinnati, Ohio 45226.

Instructions: All information received in response to this notice must include the agency name and docket number (CDC-2013-0009; NIOSH-264). All relevant comments received will be posted without change to http://www.regulations.gov, including any personal information provided. All electronic comments should be formatted as Microsoft Word. Please make reference to CDC-2013-0009 and Docket Number NIOSH-264.

SUPPLEMENTARY INFORMATION: The purpose of this review is to receive public comments and input on a draft document entitled “NIOSH Traumatic Injury Research and Prevention Program and Strategic Goals.” This document includes revisions to program strategic goals last updated in 2009. The draft strategic goals are intended to guide NIOSH intramural and extramural research for the 5-year period, 2014-2019. NIOSH is seeking comments on: (1) The relevance of the draft strategic goals; (2) suggested areas where research is needed or no-longer needed; (3) the adequacy of the goals for addressing the changing workplace and emerging hazards that threaten the safety of workers; (4) the adequacy of proposed performance measures; (5) opportunities for collaboration between NIOSH scientists, extramural scientists, and state occupational public health programs; and (6) input on additional potential partners the NIOSH Traumatic Injury Program could work with to enhance future directions of the NIOSH Traumatic Injury Research and Prevention Program.

Background: The strategic goals in the Plan are largely based on fatal and nonfatal surveillance data, and address the following areas:

(1) Reduce Falls in the workplace

(2) Reduce Occupational Injuries and Deaths due to Motor-Vehicle Incidents and Crashes

(3) Reduce Occupational Injuries and Deaths due to Workplace Violence

(4) Reduce Occupational Injuries and Deaths due to Machines and Industrial Vehicles

(5) Reduce Occupational Injuries and Deaths among High Risk and Vulnerable Worker Groups, and

(6) Increase use of Surveillance Data to Guide Occupational Traumatic Injury Research and Prevention Efforts.

FOR FURTHER INFORMATION CONTACT: Dawn Castillo, NIOSH, Division of Safety Research, Mailstop H-1900, 1095 Willowdale Road, Morgantown, West Virginia 26505-2888. Ms. Castillo may be contacted at (304) 285-5894 or Email at DCastillo@cdc.gov.

Dated: June 7, 2013.
John Howard,
Director, National Institute for Occupational Safety and Health, Centers for Disease Control and Prevention.

[FR Doc. 2013-14133 Filed 6-14-13; 8:45 am]

BILLING CODE 4163-19-P